DEPARTMENT OF TRANSPORTATION

Federal Aviation Administration

14 CFR Part 39

[Docket No. 2000-NM-72-AD; Amendment 39-12077; AD 2001-01-07]

RIN 2120-AA64

Airworthiness Directives; Airbus Model A300 B2, A300 B4, A300 B4-600, A300 B4-600R, A300 F4-600R, and A310 Series Airplanes

AGENCY: Federal Aviation Administration, DOT.

ACTION: Final rule.

SUMMARY: This amendment adopts a new airworthiness directive (AD), applicable to certain Airbus Model A300 B2, A300 B4, A300 B4-600, A300 B4-600R, A300 F4-600R, and A310 series airplanes, that requires modification of the escape slides. The actions specified by this AD are intended to prevent deflation of the escape slide after deployment, which could result in a delay during an emergency evacuation. This action is intended to address the identified unsafe condition.

DATES: Effective February 22, 2001.

The incorporation by reference of certain publications listed in the regulations is approved by the Director of the Federal Register as of February 22, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A300 B2 and A300 B4 (A300); Model A300 B4-600, A300 B4-600R, and A300 F4-600R (A300-600); and Model A310 series airplanes was published in the Federal Register on October 31, 2000 (65 FR 64901). That action proposed to require modification of the escape slides.

Comments

Interested persons have been afforded an opportunity to participate in the making of this amendment. No comments were submitted in response to the proposal or the FAA's determination of the cost to the public.

Conclusion

The FAA has determined that air safety and the public interest require the adoption of the rule as proposed.

Cost Impact

The FAA estimates that 126 airplanes of U.S. registry will be affected by this AD, that it will take approximately 1 work hour per slide to accomplish the required actions, and that the average labor rate is $60 per work hour. Required parts will cost approximately $124 to $185 per slide. Each Model A300 and A300-600 series airplane has 6 escape doors, and each Model A310 series airplane has 4 escape doors. Based on these figures, the cost impact of the proposed AD on U.S. operators is estimated to be between $736 and $1,470 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-01-07 Airbus Industrie: Amendment 39-12077. Docket 2000-NM-72-AD.

Applicability: The following airplanes, certificated in any category:

Model | Equipped with any BFGoodrich slide having part number | Excluding airplanes modified in accordance with
A300 B2 series A300 B4 series | 7A1296-001 7A1296-002 7A1296-003 7A1296-004 7A1298-001 7A1298-002 7A1298-003 7A1298-004 | Airbus Service Bulletin A300-25-0466, Revision 01, dated December 1, 1999; or BFGoodrich Service Bulletin 7A1296/7A1298-25-298, dated January 15, 1999.
A300 B4-600 series | 7A1296-001
A300 B4-600R series | 7A1296-002
A300 F4-600R series | 7A1296-003 7A1296-004 7A1298-001 7A1298-002 7A1298-003 7A1298-004 | Airbus Service Bulletin A300-25-6146, Revision 01, dated December 1, 1999; or BFGoodrich Service Bulletin7A1296/7A1298-25-298, dated January 15, 1999.
A310 series | 7A1298-001 7A1298-002 7A1298-003 7A1298-004 | Airbus Service Bulletin A310-25-2133, dated June 21, 1999; or BFGoodrich Service Bulletin 7A1296/7A1298-25-298, dated January 15, 1999.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent deflation of the escape slide after deployment, which could result in a delay during an emergency evacuation, accomplish the following:

Modification

(a) Within 34 months after the effective date of this AD, modify the escape slides in accordance with the applicable Airbus service bulletin listed in Table 1 of this AD, as follows:

Table 1.—Service Bulletins
Model | Service bulletin | Revision level | Date
A300 | A300-25-0466 | 01 | December 1, 1999.
A300-600 | A300-25-6146 | 01 | December 1, 1999.
A310 | A310-25-2133 | Original | June 21, 1999.

Note 2: The Airbus service bulletins refer to BFGoodrich Service Bulletin 7A1296/7A1298-25-298, dated January 15, 1999, as an additional source of service information for modifying the escape slides.

(b) As of the effective date of this AD, no person shall install, on any airplane, a BFGoodrich escape slide having a part number listed in Table 2 of this AD, unless that slide has been modified in accordance with this AD:

Table 2.—Slide Part Numbers
7A1296-001 7A1296-002
7A1296-003 7A1296-004
7A1298-001 7A1298-002
7A12 98-003 7A1298-004

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The modification shall be done in accordance with Airbus Service Bulletin A300-25-0466, Revision 01, dated December 1, 1999; Airbus Service Bulletin A300-25-6146, Revision 01, dated December 1, 1999; or Airbus Service Bulletin A310-25-2133, dated June 21, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-059-302(B), dated February 9, 2000.

Effective Date

(f) This amendment becomes effective on February 22, 2001.

Issued in Renton, Washington, on January 9, 2001.
Donald L. Riggin,
Acting Manager, Transport Airplane Directorate, Aircraft Certification Service.

[FR Doc. 01-1232 Filed 1-17-01; 8:45 am]

BILLING CODE 4910-13-P